DEPARTMENT OF HOUSING AND URBAN DEVELOPMENT

24 CFR Part 5 and Chapter IX

[Docket No. FR-6438-N-01]

Regulatory Waivers and Administrative Flexibilities During a Presidentially Declared Disaster, for Public Housing Agencies During CY 2024 and CY 2025

AGENCY: Office of Assistant Secretary for Public and Indian Housing, U.S. Department of Housing and Urban Development (HUD).

ACTION: Notification of waivers.

SUMMARY: This document advises Public Housing Agencies (PHAs) and the public that HUD is establishing an expedited waiver process for requests to waive HUD regulatory and/or administrative requirements (“HUD requirements”) for PHAs during Presidentially Declared Disasters (PDDs). PHAs located in areas that are included in PDD areas (PDD PHAs) may request waivers of certain HUD Public Housing and section 8 requirements and receive expedited review of such requests to utilize the administrative flexibilities and expedited waiver process set forth in this document.

DATES: Waivers and administrative flexibilities set forth in this document are effective from January 1, 2024, until December 31, 2025.

FOR FURTHER INFORMATION CONTACT: Tesia Anyanaso, Office of Field Operations, Office of Public and Indian Housing, Department of Housing and Urban Development, 451 7th Street SW, Room 3180, Washington, DC 20410-5000, or email PIH_Disaster_Relief@hud.gov or call (202) 402-7026 during business hours. HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: HUD is exercising its discretionary authority from 24 CFR 5.110 (Waivers) and is providing regulatory flexibility to PDD PHAs described in this document. Upon receipt of a PDD PHA waiver or flexibility request, HUD will review and may approve the submission. The request must include documentation of good cause for each waiver or flexibility request. HUD may consider extensions subject to statutory limitations and pursuant to 24 CFR 5.110, to facilitate a PDD PHA's ability to participate in disaster relief and recovery efforts.

Waivers of essential program requirements, such as property inspection or income verification, will not be granted in their entirety, although modifications may be considered. HUD's ability to grant waivers or approve alternative requirements is limited, as HUD does not have the authority to waive statutory requirements.

I. Instructions for PDD PHAs—How To Request an Expedited Waiver or Administrative Flexibility

A PDD PHA seeking a waiver or flexibility of a HUD requirement listed within this document, or any other HUD requirement needed to assist in disaster relief and recovery efforts, must submit a written request. HUD will not approve a PDD PHA's request to waive or be granted a flexibility for fair housing, civil rights, labor standards, or HUD's environmental review requirements.

Waiver requests approved by HUD pursuant to this document will be published in the Federal Register and will identify the PDD PHAs receiving such approvals, pursuant to section 106 of the Department of Housing and Urban Development Reform Act of 1989. The process that HUD will use in assessing applications for waivers and administrative flexibilities is explained below.

HUD developed a checklist (Attachment A at the end of this document) that a PDD PHA must complete and submit to request expedited review of waivers identified in this document. Each request must include a good-cause justification explaining the need for the waiver related to the PHA's disaster relief and recovery efforts. The PDD PHA must await HUD's response affirming waiver approval before implementing any requested waiver. Waivers will be granted for a period of up to 12 months following approval, unless otherwise specified.

Waivers are divided into two tiers: tier 1, waivers that are estimated to be approved within 30 days; and tier 2, waivers that are estimated to be approved within 60 days. The Office of Public and Indian Housing (PIH) will prioritize waiver request(s) based upon the designated tier.

II. List of Waivers and Administrative Flexibilities

Tier 1: Immediate Need. This tier includes waivers and administrative flexibilities needed for crisis management operations during the immediate aftermath of a PDD. These requests will be prioritized by HUD and be approved with the quickest turnaround time estimated at 30 days.

Waivers applicable to both Public Housing (PH) and Housing Choice Voucher (HCV) programs:

A. 24 CFR 982.201(e) and 960.259(a) and (c)(1): Verification of Date of Birth and Disability Status

HUD may waive 24 CFR 982.201(e) and 960.259(a) and (c)(1) as it relates to verifying a family member's disability status and/or date of birth at the time of admission; and the impact that determination has on the family's eligible expenses and deductions.

If this waiver is approved, as an alternative requirement, a PHA may accept self-certification for families impacted by a PDD. If the family is unable to provide third-party verification of disability and/or date of birth for one of its members, because of loss of documents, or lack of access to documents, then the applicable family member must certify to date of birth and disability status. The PHA must verify the disability status and/or date of birth within 90 days after admission (30 days longer than the standard 60 days).

Self-certification of date of birth and disability status cannot be utilized when it is related to the eligibility for a particular special purpose voucher (e.g., Mainstream).

B. 24 CFR 984.303(d): Family Self Sufficiency (FSS) Contract of Participation, Contract Extension

Section 984.303(d) authorizes a PHA to extend a family's contract of participation for a period not to exceed two years in the FSS Program, for any family that requests it. HUD may consider a request from a PDD PHA that wishes to extend contracts for up to 3 years (one additional year) if such extensions are justified during PDDs.

C. 24 CFR 982.201(e) and 960.259(a)(1) and (2) and (c): Eligibility Determination, Income Verification

PHAs are required to verify a family's income eligibility within 60 days prior to voucher issuance for the tenant-based voucher program and prior to admission for the project-based voucher and public housing programs. PIH Notice 2023-27 provides the verification hierarchy under which PHAs are responsible for obtaining third party verification of reported family annual income, and PHAs must demonstrate efforts to obtain third party verification prior to accepting self-certification except in instances when self-certification is explicitly allowed. This waiver would apply only to families lacking necessary income documentation due to being impacted by the PDD. If the waiver is approved, the following alternative requirements will apply:

1. For any applicant family impacted by the PDD, the PHA must first request third-party documentation from the family.

2. If the family is unable to provide third-party documentation at the time of the request, the PHA may immediately allow self-certification. The PHA is not required to first attempt to obtain the documentation from the third-party source of income before proceeding immediately to the family self-certification if the family does not have third party documents available to verify the family's income, notwithstanding the requirement under PIH Notice 2023-27 that PHAs must demonstrate efforts to obtain third party verification prior to accepting self-certification.

3. Applicants must submit a self-certification declaration of income, assets, expenses, and other factors that would otherwise affect an income eligibility determination.

4. If the family is unable to provide third-party verification, for the tenant-based HCV program the PHA must receive information verifying that the family is eligible within the period of 60 days after the PHA enters a Housing Assistance Payment (HAP) contract on behalf of the family, assuming the PHA has received self-certification of income from the applicant no later than 60 days prior to voucher issuance. For the Public Housing and Project Based Voucher (PBV) programs, the PHA must receive information verifying that the family is eligible within the period of 60 days following admission or commencement of PBV assistance, respectively.

5. The adoption of this waiver does not authorize any ineligible family to receive assistance under these programs or relieve the PHA of its responsibilities to correct any overpayments or underpayments of subsidy. The PHA must take steps to identify and resolve any income discrepancies, including updating the family's income retroactive to the New Admission (action code 1) HUD-50058 and correcting any overpayments or underpayments. If the PHA later determines that an ineligible family received assistance, it must take steps to terminate that family from the program.

D. 24 CFR 982.206(a)(2) and 960.206: Waiting List Opening and Closing, Public Notice

HUD may approve an alternative requirement that the PDD PHA may provide public notice in a voicemail message on its main or general information telephone number and through its website (if such a PHA website is available).

PHAs must comply with applicable fair housing and other civil rights requirements when they provide public notice. For example, a PDD PHA that chooses to provide public notice at its offices must consider the impact on persons with disabilities, who may have difficulty visiting the office in-person. Similarly, a PDD PHA that chooses to provide public notice via voice-mail message must consider how it will reach persons with hearing impairments and persons with limited English proficiency. HUD maintains the requirement that a PDD PHA must also provide the public notice in minority media. Any notice must comply with HUD fair housing requirements.

E. PIH Notice 2011-65: Timely Reporting Requirements of the Family Report (Form HUD-50058)

PHAs must submit family reports no later than 60 calendar days from the effective date of any action recorded on line 2b of the form HUD-50058 (or form HUD-50058 MTW). During a PDD, HUD may approve an alternative requirement allowing PHAs to extend this term and submit within 90 days.

F. 24 CFR 982.516(a)(2) and (3): Family Income and Composition, Annual, and Interim Examinations for HCV and PBV; 24 CFR 960.259(c): Family Information and Verification for PH and PIH Notice 2023-27

The PHA is required to obtain and document in the tenant file third-party verification or must document in the tenant file because third party verification was not available. HUD may waive the requirements to use the income verification hierarchy for families impacted by a PDD. If approved, a PHA can forgo third-party income verification requirements for Annual Reexaminations and Interim Reexaminations and the PHA may consider self-certification as the highest form of income verification to process Annual and Interim reexaminations during the allowable period of eligibility.

Waivers for the Housing Choice Voucher program only:

G. 24 CFR 5.703(d)(5): National Standards for the Physical Inspection of Real Estate, Units

HUD may consider a request from a PDD PHA to waive the requirement to have at least one bedroom or living/sleeping room for each two persons, to help house families displaced due to PDDs. Should the waiver be granted, it will be in effect only for Housing Assistance Payment (HAP) contracts, or PBV leases entered during the rolling 12-month period following the date of HUD approval, and then only with the written consent of the family. HUD will not waive reasonable accommodation requirements. For any family occupying a unit pursuant to this waiver, the waiver will be in effect for the initial lease term.

H. 24 CFR 982.503(c): HUD Approval of Exception Payment Standard Amount

Typically, a PHA must provide data about the local market, as well as other program related information, to substantiate the need for an exception payment standard. In a PDD, however, the typical data sources fail to capture conditions “on the ground.” In addition, the PHA is focused on meeting the immediate needs of displaced families, and HUD wants to limit the PHA's burden to provide additional documentation that may not be readily available.

In these cases, a PHA must provide available data on pre-disaster HCV time to lease and success rates, its pre-disaster payment standards, the exception payment standard amounts being requested, and the need for the requested exception payment standard amounts. HUD will then consider the information provided by the PHA, along with the most recently available data on the rental market prior to the disaster—which may include rents and vacancy rates—and compare it to data available immediately after a disaster which may include the number and share of rental units destroyed or seriously damaged, number of households displaced, and the amounts the Federal Emergency Management Agency (FEMA) or local government is providing for rent assistance to displaced disaster survivors. HUD will use this information to arrive at an emergency exception payment standard amount, which may be up to 200 percent of the Fair Market Rent (FMR) or Small Area FMR, as applicable. For example, if a housing market with low vacancies and long search times for HCV tenants prior to a disaster, loses a substantial share of rental units due to the disaster, and FEMA or the local government is paying well above FMR for rent assistance, this could justify an exception payment standard set to match FEMA's rent assistance level.

The exception payment standards will be effective on or after the date the exception payment standards are adopted by the PHA following HUD approval. The exception payment standards will remain in effect for up to 12 months. HUD may revisit and adjust the approved exception payment standard amounts based on reliable post-disaster rental data once it is available. PDD PHAs are reminded that increased per-family costs resulting from the use of exception payment standards may result in a reduction in the number of families assisted or may require other cost-saving measures for an PDD PHA to stay within its funding limitations.

I. 24 CFR 982.54(d)(2): Term of Voucher, Extension of Term

The Department recognizes the urgency and the time required to update the Administrative Plan. Therefore, HUD may waive 24 CFR 982.54(d)(2), allowing the PHA to establish the alternative voucher extension policy immediately before updating its Administrative Plan. As an alternative requirement, the PHA must notify families searching with a voucher of the new policy as soon as possible and update its Administrative Plan within six months of approval of this waiver.

J. 24 CFR 982.305(c): PHA Approval of Assisted Tenancy, When HAP Contract Is Executed

When a PDD impacts an owner's ability to collect the documents, HUD may waive 24 CFR 982.305(c) and provide as an alternative requirement that the HAP contract must be executed no later than 120 calendar days (60 days longer than the standard regulation) from the beginning of the lease term. This waiver would remain in effect for up to six months following approval.

K. 24 CFR 982.633(a): Occupancy of Home

HUD may consider a request from a PDD PHA wishing to waive the requirement that PHAs make HAP for homeownership assistance only while a family resides in their home and must stop HAP no later than the month after a family moves out, to allow families displaced from their homes located in areas affected by PDDs to comply with mortgage terms or make necessary repairs.

A PHA requesting a waiver of this type must show good cause by demonstrating that the family is not already receiving assistance from another source. Note: In addition, a PDD PHA that wishes to request a waiver of the requirement at 24 CFR 982.312 that a family be terminated from the program if they have been absent from their home for 180 consecutive calendar days must do so separately.

L. 24 CFR 982.54(a): Administrative Plan

Recognizing difficulties in complying with the requirement that the PHA Board of Commissioners formally adopted revisions to the administrative plan during a PDD, HUD may waive the requirement to allow the PHA administrative plan to be revised on a temporary basis without Board approval for 120 days. Any informally adopted revisions under this waiver authority must be formally adopted within 120 days.

Waiver requests will be limited to revisions that do not constitute a significant amendment or modification to the PHA or Moving to Work (MTW) plan; pursuant to section 5A(g) of the 1937 Act, HUD cannot waive the approval by the board or other authorized PHA officials if the proposed revision would constitute a significant amendment or modification to the PHA or MTW plan. Finally, HUD cannot waive any terms within a PHA's own plan or state law requiring the approval of the board or authorized PHA officials.

M. 24 CFR 982.405(b): Supervisory Quality Control Inspections

This regulation requires the PHA to conduct supervisory quality control housing quality standards (HQS) inspections. This waiver would remove the requirement for PHAs to conduct such inspections for the 6-month period following waiver approval.¹

¹ Although HCV regulations still cite HQS as a term, the citations point to the National Standards for the Physical Inspection of Real Estate (NSPIRE) final rule which was published on May 11, 2023 (88 FR 30442), consolidating HUD's inspection standards and procedures.

N. 24 CFR 982.312: Absence From Unit

This regulation requires that a family may not be absent from a unit for a period of more than 180 consecutive calendars days for any reason. Under this document, PDD PHAs may seek waiver approval to extend the period of absence from 180 days to 240 days and maintain documentation in the tenant file indicating unit is under a PDD which resulted in the extended absence.

O. 24 CFR 982.455, 983.258, and 983.211(a): Automatic Termination of HAP Contract or Required Removal of Unit From the PBV HAP

During a PDD, families may experience economic and employment instability, resulting in loss of income in the immediate aftermath of a PDD. PHAs may request a waiver to extend the timeframe for automatic termination of the HAP contract or required removal of the unit from the PBV HAP contract, from 180 days to 360 days following the last HAP payment to the owner, to preserve families' assistance for a longer period in case a family experiences a loss of income, and to allow the PHA time to process interim reexaminations for families who report a loss of income.

P. 24 CFR 982.517(c): Revisions of Utility Allowance Schedule

PHAs must review their schedule of utility allowances each year and revise its allowance for a utility category if there has been a change of 10 percent or more in the utility rate since the last time the utility allowance schedule was revised.

During a PDD, HUD may allow a PHA to delay reviewing and updating HCV utility allowances, for an additional 6 months beyond the normal 12-month period.

Q. PIH Notice 2018-1, Section 9: Guidance on Small Area Fair Market Rent (SAFMR) and Payment Standard

PHAs may request a suspension or temporary exemption from using SAFMRs. A PDD PHA can request a suspension or temporary exemption from the requirement to use SAFMRs, and HUD can provide such an extension, through this waiver process rather than following the requirements and process outlined in PIH Notice 2018-1, which would normally be required.

R. 24 CFR Part 985: Section 8 Management Assessment Program (SEMAP)

For a PDD PHA that has a SEMAP score due during calendar year (CY) 2024 or CY2025 HUD may consider a request to carry forward the last SEMAP score received by the PHA and forego HUD performing an assessment for CY2024 or CY2025, as applicable. If HUD grants this waiver, the PHA's next SEMAP assessment will occur at the time an assessment would normally have been required had the PHA received the same SEMAP score for CY2024 or CY2025, as applicable.

Waivers for the Public Housing program only:

S. 24 CFR 965.302: Requirements for Energy Audits

PHAs must complete an energy audit for each PHA-owned project at least once every five years. If the deadline for completing energy audit coincides with a PDD, this waiver would allow the PHA to delay the completion of their energy audit if a project has units with a HUD approved status of Disaster, in accordance with 24 CFR 990.145(b)(2).

T. 24 CFR 965.507: Review and Revision of Allowances

PHAs must review, and update as necessary, utility allowances on an annual basis. During a PDD, HUD may allow a PHA to delay reviewing and updating public housing utility allowances, for an additional 6 months beyond the normal 12-month period.

U. 24 CFR 966.5: Posting of Policies, Rules, and Regulations

PHAs are required by this regulation to provide 30-day notice to impacted families for changes to policies, rules, and special charges to families. As an alternative requirement, for the 6-month period following approval of this waiver, PHAs will not be required to provide such advance notice to families, except advance notice must be provided for any changes related to tenant charges.

Tier 2 Waivers: Less Time Sensitive. Justification of these waivers depends on a PHA's reporting cycle or the timing of the PDD—it is not necessarily a flexibility needed for crisis management operations in the immediate aftermath of a disaster. Flexibility will be required as part of the recovery phase (reconstruction) of the disaster/emergency event, so PHAs can expect these requests to be expedited in approximately 60 days.

Waiver applicable to both PH and HCV programs:

A. 24 CFR 5.801(c) and (d)(1): Uniform Financial Reporting Standards, Filing of Financial Reports, Reporting Compliance Dates

For PDD PHAs with a deadline to submit only audited financial information in accordance with 24 CFR 5.801(b) and (d) within six months after the date of the disaster related to the PDD, HUD may consider a request to waive the due date. For PDD PHAs with a deadline to submit unaudited financial information in accordance with 24 CFR 5.801(b) and (d) within 120 days before and up to six months after the date of the disaster related to the PDD, HUD may consider a request to waiver the due date.

HUD may consider requests from PDD PHAs with financial submission due dates that fall outside these requirements. The deadline for submission of financial information in accordance with 24 CFR 5.801(b) and the deadline for submission of unaudited financial statement may be extended to 180 calendar days, and the deadline for submission of audited financial statements may be extended to 13 months.

Waivers for the Public Housing program only:

B. 24 CFR Part 902: Public Housing Assessment System

For PDD PHAs with fiscal year end (FYE) dates within four months before and up to 10 months after the effective date of the PDD, HUD may consider a request to waive the physical inspection and scoring of public housing projects, as required under 24 CFR part 902. For situations beyond the PHA's control, HUD may consider requests from PDD PHAs with a FYE date that falls outside these dates.

C. 24 CFR 905.306: Extension of Deadline for Programmatic Obligation and Expenditure of Capital Funds

The regulation does not permit extensions of the expenditure dates other than for the period of a HUD-approved extension of the obligation deadline. HUD may extend both the obligation end date and the expenditure end date for all Capital Fund grants during a PDD. However, no programmatic expenditure end date shall be extended beyond one month prior to the closure of the relevant appropriation account, pursuant to 31 U.S.C. 1552.

D. 24 CFR 905.322(b): Fiscal Closeout

An Actual Development Cost Certificate (ADCC) must be submitted 12 months from the date of completion/termination of a modernization activity, and the Actual Modernization Cost Certificate (AMCC) must be submitted not later than 12 months from the activity's expenditure deadline. In accordance with 2 CFR 200.344(b), HUD may authorize an extension; however, if the PHA does not submit all reports within one year, HUD must report the failure under the Office of Management and Budget (OMB) designate integrity and performance system.

E. 24 CFR 905.314(b) and (c): Cost and Other Limitations, Maximum Project Cost, Total Development Cost (TDC) Limit

To facilitate the use of Capital Funds for repairs and construction for needed housing in the disaster areas, HUD may consider waiving the TDC and housing cost cap limits for all work funded by the Capital Grant (with unexpended Capital Grant funds) or for work on housing in the disaster area which is included as part of a Choice Neighborhoods Implementation Grant. PDD PHAs that request to waive this provision and receive approval to do so must strive to keep housing costs reasonable given local market conditions, based upon the provisions outlined in 2 CFR part 200.

F. 24 CFR 905.314(j): Cost and Other Limitations, Types of Labor

This section establishes that for high performer PHAs, they may use force account labor for modernization and development activities without including it in a Board-approved Capital Fund Program 5-Year Action Plan. HUD may waive this requirement to allow for the use of force account labor for modernization only activities for non-high performers even if this activity has not been included in the non-high performer PDD PHA's 5-Year Action Plan. Should HUD waive this requirement, the waiver will be in effect for a period not to exceed 12 months from the date of HUD approval.

G. 24 CFR 905.400(i)(5): Capital Fund Formula, Replacement Housing Factor To Reflect Formula Need for Projects With Demolition or Disposition Occurring on or After October 1, 1998, and Prior to September 30, 2013

HUD may consider waiving § 905.400(i)(5) to help address housing needs because of the displacement caused by the PDD, and to allow unexpended Capital Fund Replacement Housing Factor Grants to be used for public housing modernization. Should HUD waive this requirement, the waiver will be in effect for funds obligated within a period not to exceed 12 months from the date of HUD approval.

H. 24 CFR 970.15(b)(1)(ii): Demolition/Disposition Applications and Environmental Reviews Performed Under 24 CFR Parts 50 and 58

For section 18 demolition applications and disposition applications justified by location obsolescence for PDD PHAs, HUD may consider a waiver request for the environmental review to be performed under 24 CFR part 50 or 58, if HUD determines the environmental review indicates the environmental conditions jeopardize the suitability of the site (or a portion of the site) and the housing structures for residential use.

I. 24 CFR 970.15(b)(2): Cost Estimate for Demo Application

For section 18 demolition applications justified by obsolescence, HUD requires that PHAs support the cost estimate by a list of specific and detailed work items that require rehabilitation or repair, as identified on form HUD-52860-B and other criteria outlined in PIH Notice 2018-04, section A. HUD may consider requests to waive these requirements if a PDD PHA submits other evidence (e.g., insurance adjuster reports, condemnation orders from local municipalities, and photographs) that support the PDD PHA's certification that a program of modifications is not cost-effective.

J. 24 CFR 990.145(b)(2): Dwelling Units With Approved Vacancies

If a PDD PHA has one or more units that have been vacated due to a PDD, then the PDD PHA, with HUD approval, may treat the unit as an “approved vacancy.” Upon the request of a PDD PHA and HUD approval, on a case-by-case basis, such units may be considered approved vacancies for the time approved by HUD. Effective date of vacant unit must align with the date of the emergency/or significant disaster event that resulted in the PDD.

III. Exceptions or Waivers Not Listed in This Document

A PDD PHA may request an exception of a HUD requirement not listed in section II of this document. HUD will only consider such exception requests subject to statutory limitations and pursuant to 24 CFR 5.110. Such exceptions or waivers shall not include any requests to waive fair housing, civil rights, labor standards, or environmental review requirement. The request must include justification and supporting documentation, if necessary, to support the request.

IV. Finding of No Significant Impact

A Finding of No Significant Impact (FONSI) with respect to the environment has been made in accordance with HUD regulations at 24 CFR part 50, which implement section 102(2)(C) of the National Environmental Policy Act of 1969 (42 U.S.C. 4332(2)(C)).

The FONSI is available through the Federal eRulemaking Portal at https://www.regulations.gov. The FONSI is also available for public inspection between 8 a.m. and 5 p.m. Eastern Time weekdays in the Regulations Division, Office of General Counsel, Department of Housing and Urban Development, 451 7th Street SW, Room 10276, Washington, DC 20410-0500. Due to security measures at the HUD Headquarters building, an advance appointment to review the docket file must be scheduled by calling the Regulations Division at 202-708-3055 (this is not a toll-free number). HUD welcomes and is prepared to receive calls from individuals who are deaf or hard of hearing, as well as individuals with speech and communication disabilities. To learn more about how to make an accessible telephone call, please visit https://www.fcc.gov/consumers/guides/telecommunications-relay-service-trs.

V. Paperwork Reduction Act

The information collections referenced in this document have been approved by OMB pursuant to the Paperwork Reduction Act under, OMB Control Number 2577-0292.

Dominique Blom,
General Deputy Assistant Secretary for Public and Indian Housing.

Attachment A

Use this checklist and follow these instructions to submit a complete PDD waiver or flexibility request. Checklists and any supporting documentation or information must be submitted no later than 120 days following the PDD designation. Requests submitted after that time will not be considered on an expedited basis.

1. Copy and paste the checklist below into a new document, saving the document with the following filename format: Federal Register docket number (FR-XXXX-N-XX), a hyphen, then your Agency's HA Code. For example: FR-XXXX-N-XX-AL123.

2. The section titled “Information about Requesting Agency” must be completed in its entirety. An official of the PDD PHA must sign where indicated. If the information about the requesting agency is incomplete or the checklist has not been signed, then the checklist will be returned.

3. Address an email to both PIH_Disaster_Relief@hud.gov and your regional HUD Field Office Public Housing Director, which can be found at https://www.hud.gov/program_offices/public_indian_housing/about/field_office. In the subject line, type “PHA Name—PHA Code—PDD Disaster Relief—Month and Year.” For example, Allenway Housing Authority—AL123—PDD Disaster Relief—October 2024.

4. Attach to your email the completed checklist, letter of justification, and all supporting documentation as applicable. HUD will consider other methods of submission as needed.

Section 1. Information About Requesting Agency

NAME OF PHA:

PHA CODE:

Presidentially Declared Disaster (PDD) your agency is under, or FEMA disaster number:

Address:

City or Locality: (must be covered under PDD)

Zip Code:

Parish/County:

Date of Submission:

Signature of PHA Official:

Name/Title of PHA Official:

Phone number of PHA Official:

Email address of PHA Official:

Section 2. Insert an “X” to the Left of the Administrative Flexibilities You Are Requesting

Each request must include a good-cause justification for the waiver or flexibility, documenting why the waiver is needed for each purpose.

Tier | Waiver | Citation and waiver name—FY 2024 presidentially declared disaster (PDD) | PH | HCV | Both PH and HCV
Tier 1 Waivers | A | 24 CFR 982.201(e) and 960.259: Verification of Date of Birth and Disability Status |  |  | x
| B | 24 CFR 984.303(d): Family Self Sufficiency (FSS) Contract of Participation, Contract Extension |  |  | x
| C | 24 CFR 982.516(a)(2) and (3) and 960.259(c): Eligibility Determination, Income Verification |  |  | x
| D | 24 CFR 982.206(a)(2) and 960.206: Waiting List, Opening and Closing, Public notice |  |  | x
| E | PIH Notice 2011-65: Timely Reporting Requirements of the Family Report (form HUD-50058) |  |  | x
| F | 24 CFR 982.516(a)(2) and (3): Family Income and Composition, Annual and Interim Examinations for HCV and PBV; 24 CFR 960.259(c): Family Information and Verification for PH and PIH Notice 2023-27 |  |  | x
| G | 24 CFR 5.703(d)(5): National Standards for the Physical Inspection of Real Estate, Units |  | x |
| H | 24 CFR 982.503(c): HUD Approval of Exception Payment Standard Amount |  | x |
| I | 24 CFR 982.54(d)(2): Term of Voucher, Extension of Term |  | x |
| J | 24 CFR 982.305(c): PHA Approval of Assisted Tenancy, When HAP Contract is Executed |  | x |
| K | 24 CFR 982.633(a): Occupancy of Home |  | x |
| L | 24 CFR 982.54(a): Administrative Plan |  | x |
| M | 24 CFR 982.405(b): Supervisory Quality Control Inspection |  | x |
| N | 24 CFR 982.312: Absence from Unit |  | x |
| O | 24 CFR 982.455, 983.258 and 983.211(a): Automatic Termination of HAP Contract or Required Removal of Unit from the PBV HAP |  | x |
| P | 24 CFR 982.517(c): Revisions of Utility Allowance Schedule |  | x |
| Q | PIH Notice 2018-1, Section 9: Guidance on SAFMR and Payment Standard |  | x |
| R | 24 CFR Part 985: Section 8 Management Assessment Program (SEMAP) |  | x |
| S | 24 CFR 965.302: Requirements for Energy Audits | x |  |
| T | 24 CFR 965.507: Review & Revision of Allowances | x |  |
| U | 24 CFR 966.5: Posting of Policies, Rules, and Regulations | x |  |
Tier 2 Waivers | A | 24 CFR 5.801(c) and (d)(1): Uniform Financial Reporting standards, Filing of Financial Reports, Reporting Compliance Dates |  |  | x
| B | 24 CFR Part 902: Public Housing Assessment System | x |  |
| C | 24 CFR 905.306: Extension of Deadline for Programmatic Obligation and Expenditure of Capital Funds | x |  |
| D | 24 CFR 905.322(b): Fiscal Closeout | x |  |
| E | 24 CFR 905.314(b) and (c): Cost and Other Limitations, Maximum Project Cost, TDC limit | x |  |
| F | 24 CFR 905.314(j): Cost and Other Limitations, Types of Labor | x |  |
| G | 24 CFR 905.400(i)(5): Capital Fund Formula, Replacement Housing Factor to Reflect Formula Need for Projects with Demolition or Disposition Occurring on or after October 1, 1998, and Prior to September 30, 2013 | x |  |
| H | 24 CFR 970.15(b)(1)(ii): Demolition/Disposition Applications and Environmental Reviews Performed under 24 CFR Parts 50 and 58 | x |  |
| I | 24 CFR 970.15(b)(2): Cost Estimate for Demo Application | x |  |
| J | 24 CFR 990.145(b)(2): Dwelling Units with Approved Vacancies | x |  |
Section III of this document |  | Waivers that are not identified in this PIH document | x | x | x

[FR Doc. 2024-02094 Filed 2-2-24; 8:45 am]

BILLING CODE 4210-67-P